ENVIRONMENTAL PROTECTION AGENCY

[EPA-HQ-OPP-2012-0844; FRL-9395-2]

Product Cancellation Order for Certain Pesticide Registrations

AGENCY: Environmental Protection Agency (EPA).

ACTION: Notice.

SUMMARY: This notice announces EPA's order for the cancellations, voluntarily requested by the registrants, and accepted by the Agency, of the products listed in Tables 1 and 2 of Unit II., pursuant to the Federal Insecticide, Fungicide, and Rodenticide Act (FIFRA). This cancellation order follows a May 29, 2013 Federal Register Notice of Receipt of Requests from the registrants listed in Table 3 of Unit II., to voluntarily cancel these product registrations. In the May 29, 2013 notice, EPA indicated that it would issue an order implementing the cancellations, unless the Agency received substantive comments within the 30-day comment period that would merit its further review of these requests, or unless the registrants withdrew their requests. The Agency received a comment on the notice but it did not merit its further review of the requests. Further, the registrants did not withdraw their requests. Accordingly, EPA hereby issues in this notice a cancellation order granting the requested cancellations. Any distribution, sale, or use of the products subject to this cancellation order is permitted only in accordance with the terms of this order, including any existing stocks provisions.

DATES: The effective date of the cancellations that are the subject of this notice are as follows: The cancellation for the manufacturing products, listed in Table 1 of Unit II., will be effective September 30, 2015, no use of listed manufacturing products to formulate any end use products will be permitted after December 31, 2015, and the cancellation for the end use products listed in Table 2 of Unit II., will be effective December 31, 2016.

FOR FURTHER INFORMATION CONTACT: Molly Clayton, Pesticide Re-Evaluation Division (7508P), Office of Pesticide Programs, Environmental Protection Agency, 1200 Pennsylvania Ave. NW., Washington, DC 20460-0001, telephone number: (703) 603-0522; email address: clayton.molly@epa.gov.

SUPPLEMENTARY INFORMATION:

I. General Information

A. Does this action apply to me?

This action is directed to the public in general, and may be of interest to a wide range of stakeholders including environmental, human health, and agricultural advocates; the chemical industry, pesticide users, and members of the public interested in the sale, distribution, or use of pesticides. Since others also may be interested, the Agency has not attempted to describe all the specific entities that may be affected by this action.

B. How can I get copies of this document and other related information?

The docket for this action, identified by docket identification (ID) number EPA-HQ-OPP-2012-0844, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of certain manufacturing use and end use pesticide products registered under FIFRA section 3 or 24(c). These registrations are listed in sequence by registration number in Tables 1 and 2 of this unit.

Table 1—Manufacturing Use Product Cancellations
Registration No. | Product name
1021-1060 | D-Trans Allethrin 90% Concentrate.
1021-1128 | D-Trans Intermediate 1868.
1021-1550 | Evercide Intermediate 2416.
1021-1575 | Evercide Intermediate 2941.

Table 2—End Use Product Cancellations
Registration No. | Product name
1021-1594 | Evercide Residual Pressurized Spray 2523.
1021-1607 | Evercide Residual Pressurized Spray 2581.
5178-5 | Kilmos PF Mosquito Repellent Coils.
5178-10 | Kilmos PF Mosquito Repellent Sticks.
8848-72 | Black Jack DS205 Insect Killer.
9688-230 | Chemsico Aerosol Insecticide LD.
9688-233 | Chemsico Wasp & Hornet Killer DL.
9688-255 | Chemsico Wasp # Hornet Killer DS.
10807-436 | Konk Insect Killer.
13283-20 | Rainbow Point Three Wasp & Ant Spray.
13283-22 | Rainbow Flying and Crawling Bug Killer.
13283-24 | Rainbow Flying & Crawling Bug Killer, IV.
13283-29 | Multi-Bug II.
13283-36 | Rainbow Liquid Wasp & Ant Spray.
22950-14 | Cobra PF Mosquito Repellent Coils.
43917-1 | Spira Air-O-Mat.
43917-7 | Spira Area Mosquito Repellent.
43917-8 | Spira Punks Mosquito Coils II.
45385-9 | Chem-Tox Insect Spray.
46515-48 | House & Garden Bug Killer 4.
63376-1 | Family Mosquito Coils.
63376-2 | Family Mosquito Repellent Coils.
63376-5 | Family Mosquito Repellent Sticks.
82539-2 | Ultimate Bug Candle.
83467-1 | Buzz Buster Mosquito Repellant Coils.

Table 3 of this unit includes the names and addresses of record for all registrants of the products in Tables 1 and 2 of this unit, in sequence by EPA company number. This number corresponds to the first part of the EPA registration numbers of the products listed in Tables 1 and 2 of this unit.

Table 3—Registrants of Cancelled Products
EPA company No. | Company name and address
1021 | McLaughlin Gormley King Co., 8810 10th Ave. North, Minneapolis, MN 55427.
5178 | Blood Protection Company (China), Ltd., Agent: Regulatory West Co., LLC, 8203 West 20th St., Suite A, Greeley, CO 80634.
8848 | Safeguard Chemical Corporation, Agent: Regulatory West Co., LLC, 8203 West 20th St., Suite A, Greeley, CO 80634.
9688 | Chemsico, P.O. Box 142642, St. Louis, MO 63114.
10807 | Amrep, Inc., 990 Industrial Park Dr., Marietta, GA 30062.
13283 | Rainbow Technology Corporation, Agent: Regulatory West Co., LLC, 8203 West 20th St., Suite A, Greeley, CO 80634.
22950 | Coils International, Inc., Agent: Regulatory West Co., LLC, 8203 West 20th St., Suite A, Greeley, CO 80634.
43917 | Zobele Holdings, P.A., Agent: Regulatory West Co., LLC, 8203 West 20th St., Suite A, Greeley, CO 80634.
45385 | CTX-Cenol Inc., 1393 East Highland Rd., Twinsburg, OH 44087.
46515 | Celex, Division of United Industries Corp., P.O. Box 142642, St. Louis, MO 63114.
63376 | Family Products SDN BHD, Agent: Regulatory West Co., LLC, 8203 West 20th St., Suite A, Greeley, CO 80634.
82539 | Kerslig Candle Light, 5807 Church Hill Way, Medina, OH 44256.
83467 | Multinational Resources, Inc., 9380 SW. 72 St., Suite B211, Miami, FL 33173.

III. Summary of Public Comments Received and Agency Response to Comments

The Agency received one comment indicating that all pesticides should be disallowed because of their effect on the environment. This did not merit further review of the requests.

IV. Cancellation Order

Pursuant to FIFRA section 6(f), EPA hereby approves the requested cancellation of the registrations identified in Tables 1 and 2 of Unit II. Accordingly, the Agency orders that the product registrations identified in Tables 1 and 2 of Unit II., are canceled. The effective date of the cancellations that are the subject of this notice are as follows: The cancellation for the manufacturing products, listed in Table 1 of Unit II., will be effective September 30, 2015, no use of listed manufacturing products to formulate any end use products will be permitted after December 31, 2015, and the cancellation for the end use products listed in Table 2 of Unit II., will be effective December 31, 2016. Any distribution, sale, or use of existing stocks of the products identified in Tables 1 and 2 of Unit II., in a manner inconsistent with any of the provisions for disposition of existing stocks set forth in Unit VI., will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of May 29, 2013 (78 FR 32248) (FRL-9386-4). The comment period closed on June 28, 2013.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of manufacturing use products listed in Table 1 of Unit II., up to and including September 30, 2015, and end use products listed in Table 2 of Unit II., up to and including December 31, 2016. The following terms and conditions are applicable to existing stocks:

• No sale or distribution of listed manufacturing products by any person, other than for purposes of disposal or export, will be permitted after September 30, 2015.

• No use of listed manufacturing products to formulate end use products will be permitted after December 31, 2015.

• As of January 1, 2017, only persons other than registrants will be allowed to sell, distribute, or use existing stocks of cancelled end use products until such stocks are exhausted. Use of existing stocks will be permitted only to the extent that the use is consistent with the terms of the previously approved labeling accompanying the product used.

List of Subjects

Environmental protection, Pesticides and pests, Allethrins.

Dated: September 12, 2013.
Richard P. Keigwin, Jr.,
Director, Pesticide Re-Evaluation Division, Office of Pesticide Programs.

[FR Doc. 2013-22718 Filed 9-17-13; 8:45 am]

BILLING CODE 6560-50-P